DEPARTMENT OF THE TREASURY

Agency Information Collection Activities; Submission for OMB Review; Comment Request; Multiple Alcohol and Tobacco Tax and Trade Bureau Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 28, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov..

SUPPLEMENTARY INFORMATION:

Alcohol and Tobacco Tax and Trade Bureau (TTB)

Title: Application for an Industrial Alcohol User Permit.

OMB Control Number: 1513-0028.

Type of Review: Extension without change of a currently approved collection.

Abstract: The Internal Revenue Code (IRC) at 26 U.S.C. 5271 authorizes the Secretary of the Treasury to prescribe regulations requiring persons using tax-free alcohol for certain nonbeverage purposes (hospitals, laboratories, research centers, etc.) and persons using or dealing in specially denatured spirits (alcohol and/or rum) to apply for and receive a permit to do so prior to commencing business. Under that authority, the TTB regulations prescribe the use of TTB F 5150.22 as the application form for dealers or users of specially denatured spirits (alcohol/rum) (see 27 CFR 20.41) and for users of tax-free alcohol (see 27 CFR 22.41). TTB uses the information reported on the form to, among other things, determine the eligibility of the applicant to engage in certain operations involving specially denatured or tax-free alcohol, the location of the business or entity, and whether the operations will be in conformance with Federal laws and regulations.

Form: TTB F 5150.22.

Affected Public: Businesses or other for-profits.

Estimated Total Annual Burden Hours: 357.

Title: Report—Manufacturer of Tobacco Products or Cigarette Papers and Tubes; Report—Manufacturer of Processed Tobacco.

OMB Control Number: 1513-0033.

Type of Review: Extension without change of a currently approved collection.

Abstract: The Internal Revenue Code at 26 U.S.C. 5722 requires that every manufacturer of tobacco products, cigarette papers and tubes, or processed tobacco make reports containing such information, in such form, at such times, and for such periods as the Secretary of the Treasury shall by regulation prescribe. The TTB regulations at 27 CFR 40.202, 40.422, and 40.522 prescribe, as appropriate, the use of TTB F 5210.5 to report tobacco products and cigarette papers and tubes manufactured, received, and removed per month, and the use of TTB F 5250.1 to report all processed tobacco manufactured, received, and removed per month. TTB uses the collected information to ensure that Federal excise taxes have been properly paid and that manufacturers are in compliance with applicable Federal law and regulations.

Form: TTB F 5210.5, TTB F 5250.1.

Affected Public: Businesses or other for-profits.

Estimated Total Annual Burden Hours: 2,820.

Title: Manufacturers of Nonbeverage Products—Records to Support Claims for Drawback.

OMB Control Number: 1513-0073.

Type of Review: Extension without change of a currently approved collection.

Abstract: The Internal Revenue Code (IRC) at 26 U.S.C. 5001 imposes a Federal excise tax of $13.50 per proof gallon on distilled spirits produced or imported into the United States. However, the IRC at 26 U.S.C. 5111-5114, allows manufacturers of certain nonbeverage products that are unfit for beverage use—medicines, medicinal preparations, food products, flavors, flavoring extracts, or perfume—to claim drawback (refund) of all but $1.00 per proof gallon of the excise tax paid on the distilled spirits used in the production of such products. Under these IRC authorities, TTB has issued regulations governing nonbeverage product drawback claims, contained in 27 CFR part 17, which includes a requirement to keep source records supporting such claims. The required source records include information about distilled spirits received, gauge records, evidence of taxes paid, the date spirits were used, the quantity and kind used in each product, receipt and usage of other ingredients (to validate formula compliance), inventory records, records of recovered alcohol, the quantity of intermediate products transferred to other plants, the disposition of each nonbeverage product produced, and the purchasers (except for retail sales). These records are necessary to protect the revenue; the required records help prevent fraudulent claims and the diversion to beverage use of spirits on which nonbeverage product drawback is claimed.

Form: None.

Affected Public: Businesses or other for-profits.

Estimated Total Annual Burden Hours: 11,130.

Title: Proprietors or Claimants Exporting Liquors.

OMB Control Number: 1513-0075.

Type of Review: Extension without change of a currently approved collection.

Abstract: Under the Internal Revenue Code at 26 U.S.C. 5053, 5214, and 5362, distilled spirits, wine, and beer may be exported without payment of Federal excise tax. In addition, under the IRC at 26 U.S.C. 5055 and 5062, taxpaid distilled spirits, wine, and beer may be exported and the exporter may claim drawback (refund) on the excise taxes paid. To protect the revenue, exporters must complete various TTB and customs forms to show that the products were in fact exported. Under the TTB alcohol beverage export regulations in 27 CFR part 28, proprietors and drawback claimants are required to maintain record copies of all pertinent forms and commercial records that document the exportation of non-taxpaid alcohol beverages and the exportation of taxpaid alcohol beverages for which drawback will be claimed, and such records must be maintained for not less than 3 years.

Form: None.

Affected Public: Businesses or other for-profits.

Estimated Total Annual Burden Hours: 750.

Title: Administrative Remedies—Requests for Closing Agreements.

OMB Control Number: 1513-0099.

Type of Review: Extension without change of a currently approved collection.

Abstract: The IRC, at 26 U.S.C. 7121, authorizes the Secretary of the Treasury to enter into a written agreement with any person relating to the liability of such person (or of the person or estate for whom he or she acts) in respect to any internal revenue tax for any taxable period. That IRC section also states that such agreements, once approved, are final and conclusive, unless it is shown that the taxpayer exhibited fraud or malfeasance, or misrepresented a material fact. Under its delegated authority, TTB has issued regulations at 27 CFR 70.485 pertaining to such “closing agreements.” Specific to this information collection, the regulation requires a taxpayer or their agent to submit a written request to TTB to enter into a closing agreement to resolve certain Federal excise tax matters. TTB uses the information collected in such a request and any attached supporting documentation to determine whether the Bureau should pursue a closing agreement with the taxpayer. Closing agreements allow TTB and a taxpayer to resolve tax liability matters prior to any adversarial legal or administrative proceedings.

Form: None.

Affected Public: Businesses or other for-profits.

Estimated Total Annual Burden Hours: 5.

Authority: 44 U.S.C. 3501 et seq.

Dated: November 22, 2017.
Spencer W. Clark,
Treasury PRA Clearance Officer.

[FR Doc. 2017-25680 Filed 11-27-17; 8:45 am]

BILLING CODE 4810-31-P